DEPARTMENT OF VETERANS AFFAIRS

Privacy Act of 1974; System of Records

AGENCY: Department of Veterans Affairs (VA).

ACTION: Notice of New System of Records—Call Detail Records—VA (90VA194).

SUMMARY: The Privacy Act of 1974, 5 U.S.C. 552a(e), requires that all agencies publish in the Federal Register a notice of the existence and character of their systems of records. Notice is hereby given that the Department of Veterans Affairs (VA) is establishing a new system of records entitled “Call Detail Records—VA” (90VA194).

DATES: Comments on the establishment of this new system of records must be received no later than April 16, 2003. If no public comment is received, the new system will become effective April 16, 2003.

ADDRESSES: You may mail or hand-deliver written comments concerning the proposed new system of records to the Office of Regulations Management (02D), Department of Veterans Affairs, 810 Vermont Avenue, NW., Washington, DC 20420; or fax comments to (202) 273-9289; or email comments to “OGCRegulations@mail.va.gov”. All relevant material received before April 16, 2003 will be considered. Comments will be available for public inspection at the above address in the Office of Regulations Management, Room 1158, between the hours of 8 a.m. and 4:30 p.m., Monday through Friday (except holidays).

FOR FURTHER INFORMATION CONTACT: Veterans Health Administration (VHA) Privacy Act Officer, Department of Veterans Affairs, 810 Vermont Avenue, NW., Washington, DC 20420, telephone (727) 320-1839.

SUPPLEMENTARY INFORMATION:

I. Description of Proposed Systems of Records

Some Veterans Health Administration (VHA) facilities use call detail records to verify telephone usage, to allocate costs of telephone services to individual users, to identify unofficial telephone calls, to seek reimbursement for unofficial calls, and as a basis for taking action when employees or other individuals misuse or abuse VHA telephone systems. The establishment of the VHA telephone Call Detail Records as a new system of records is required because of the ability to retrieve information about individuals from the system through the use of a personal identifier such as the name of the individual, office symbol, or some other identifying information.

The purpose of the system of records is to establish a repository for the information that is collected to accomplish the purposes described.

Designated individuals at each facility maintain records. These records cover individuals who are assigned VHA telephone numbers or are authorized to use VHA telephone services, as well as other agencies and individuals who receive or make calls billed to VHA. Records are maintained on electronic media (hard disk and floppy disks) and paper and are stored in secure areas available only to facility staff that issue authorization codes, maintain the user database and produce monthly activity reports. Individuals including VA employees, contractors, and non-VA employees authorized to use VHA telephone services, who inappropriately make unofficial calls billed to VHA, can be responsible for the cost of those calls. Pursuant to 5 U.S.C. 552a(b)(12), VA may disclose records from this system to consumer reporting agencies as defined in the Fair Credit Reporting Act (15 U.S.C. 1681a(f)) or the Federal Claims Collection Act of 1966 (31 U.S.C. 3701(a)(3)) to recover this cost.

II. Proposed Routine Use Disclosures of Data in the System

We are proposing to establish the following routine use disclosures of information which will be maintained in the system:

1. Disclosure may be made to individuals to determine their responsibility for telephone calls.

Records from this system of records may be disclosed to appropriate VA employees to assist in the planning and effective management of VA telephone services, and to determine that VA telephones are being used in an efficient and economical manner.

2. Disclosure may be made to another Federal agency or a telecommunications company providing telephone services to permit maintenance and repair of the account.

Records may be disclosed to a telecommunications company as requested by VA for such uses as repairing or upgrading the system.

3. Information from this system of records may be disclosed to a congressional office from the record of an individual in response to an inquiry from the congressional office made on behalf of that individual.

Individuals sometimes request the help of a member of Congress in resolving some issues relating to a matter before VA. The member of Congress then writes VA, and VA must be able to give sufficient information in response to the inquiry.

4. Disclosure may be made to the National Archives and Records Administration (NARA) for records management inspections under authority of Title 44 United States Code.

NARA is responsible for archiving old records no longer actively used, but which may be appropriate for preservation; they are responsible in general for the physical maintenance of the Federal government's records. VA must be able to turn records over to these agencies in order to determine the proper disposition of such records.

5. Disclosure may be at VA's initiative made to the appropriate Federal, State, or local agency responsible for investigating, prosecuting, enforcing, or implementing a statute, rule, regulation, or order, where the agency becomes aware of an indication of a violation or potential violation of civil or criminal law or regulation.

6. A record from this system of records may be disclosed to a Federal agency, in response to its request, in connection with the hiring or retention of an employee, the issuance of a security clearance, the conducting of a security or suitability investigation of an individual, the reporting of an investigation, the letting of a grant or other benefit, to the extent that the information is relevant and necessary to the requesting agency's decision on the matter.

VA must be able to provide information to agencies conducting background checks on applicants for employment.

7. Records from this system of records may be disclosed in a proceeding before a court, adjudicative body, or other administrative body when the Agency, or any Agency component or employee (in his or her official capacity as a VA employee), is a party to litigation; when the Agency determines that litigation is likely to affect the Agency, any of its components or employees, or the United States has an interest in the litigation, and such records are deemed to be relevant and necessary to the legal proceedings; provided that the disclosure is compatible with the purpose for which the records were collected.

Whenever VA or another party is involved in litigation and VA policies or operations could be affected by the outcome of the litigation, VA would be able to disclose information to the court or parties involved. A determination would be made in each instance that, under the circumstances involved, the purpose served by the use of the information in the particular litigation is compatible with a purpose for which VA collects the information.

8. Disclosure of relevant information may be made to individuals, organizations, private or public agencies, etc., with whom VA has a contract or agreement to perform such services as VA may deem practicable for the purposes of laws administered by VA, in order for the contractor or subcontractor to perform the services of the contract or agreement.

VA occasionally contracts out certain functions when this would contribute to effective and efficient operations. VA must be able to give a contractor whatever information is necessary for the contractor to fulfill its duties. In these situations, safeguards are provided in the contract prohibiting the contractor from using or disclosing the information for any purpose other than that described in the contract.

9. Disclosure may be made to officials of labor organizations recognized under 5 U.S.C. chapter 71 when relevant and necessary to their duties of exclusive representation concerning personnel policies, practices, and matters affecting working conditions.

10. Disclosure may be made to officials of the Merit Systems Protection Board, including the Office of the Special Counsel, when requested in connection with appeals, special studies of the civil service and other merit systems, review of rules and regulations, investigation of alleged or possible prohibited personnel practices, and such other functions, promulgated in 5 U.S.C. 1205 and 1206, or as may be authorized by law.

11. Disclosure may be made to the Equal Employment Opportunity Commission when requested in connection with investigations of alleged or possible discrimination practices, examination of Federal affirmative employment programs, compliance with the Uniform Guidelines of Employee Selection Procedures, or other functions vested in the Commission by the President's Reorganization Plan No. 1 of 1978.

12. Disclosure may be made to the Federal Labor Relations Authority, including its General Counsel, when requested in connection with investigation and resolution of allegations of unfair labor practices, in connection with the resolution of exceptions to arbitrator awards when a question of material fact is raised and matters before the Federal Service Impasses Panel.

Routine uses 9—12 are necessary in order for the VA to comply with the statutory mandates.

13. Disclosure may be made to the VA-appointed representative of an employee, including all notices, determinations, decisions, or other written communications issued to the employee in connection with an examination ordered by VA under medical evaluation (formerly fitness-for-duty) examination procedures or Department-filed disability retirement procedures.

III. Compatibility of the Proposed Routine Uses

The Privacy Act permits VA to disclose information about individuals without their consent for a routine use when the information will be used for a purpose that is compatible with the purpose for which VA collected the information. In all of the routine use disclosures described above, either the recipient of the information will use the information in connection with a matter relating to one of VA's programs, will use the information to provide a benefit to VA, or disclose the information as required by law.

The notice of intent to publish and an advance copy of the system notice have been sent to the appropriate Congressional committees and to the Director of the Office of Management and Budget (OMB) as required by 5 U.S.C. 552a(r) (Privacy Act) and guidelines issued by OMB (65 FR 77677), December 12, 2000.

Approved: March 3, 2003.
Anthony J. Principi,
Secretary of Veterans Affairs.

90VA194

SYSTEM NAME:

Call Detail Records-VA.

SYSTEM LOCATION:

Records are maintained at Veterans Health Administration (VHA) facilities. Address locations for Department of Veterans Affairs (VA) facilities are listed in VA Appendix 1 of the biennial publication of the VA's systems of records.

CATEGORIES OF INDIVIDUALS COVERED BY THE SYSTEM:

Individuals who are assigned VHA telephone numbers or are authorized to use VHA telephone services, and individuals who receive or make calls billed to VHA.

CATEGORIES OF RECORDS IN THE SYSTEM:

Call detail records consist of information on Federal Telecommunication System (FTS) telephone calls placed from VHA telephones or otherwise billed to VHA including the originating and destination telephone numbers; states and cities called; date and time of call; duration of each call; cost of call; name and title of caller; request number; account code; deactivation code; authorization code records indicating the assignment of telephone numbers to organizations and individuals; and the organizational location of telephones.

PURPOSE(S):

The records are used to generate call detail records; to verify telephone usage; to allocate costs of telephone services to individual users; to identify unofficial telephone calls; and to justify action when individuals misuse or abuse VA telephone services.

AUTHORITY FOR MAINTENANCE OF THE SYSTEM:

Title 38 United States Code, section 501.

ROUTINE USES OF RECORDS MAINTAINED IN THE SYSTEM INCLUDING CATEGORIES OF USERS AND THE PURPOSES OF SUCH USES:

1. Disclosure may be made to individuals to determine their responsibility for telephone calls.

2. Disclosure may be made to another Federal agency or a telecommunications company providing telephone services to permit maintenance and repair of the account.

3. Information from this system of records may be disclosed to a congressional office from the record of an individual in response to an inquiry from the congressional office made on behalf of that individual.

4. Disclosure may be made to the National Archives and Records Administration (NARA) for records management inspections under Title 44 of United States Code.

5. Disclosure may be made at VA's initiative to the appropriate Federal, State, or local agency responsible for investigating, prosecuting, enforcing, or implementing a statute, rule, regulation, or order, where the agency becomes aware of an indication of a violation or potential violation of civil or criminal law or regulation.

6. A record from this system of records may be disclosed to a Federal agency, in response to its request, in connection with the hiring or retention of an employee, the issuance of a security clearance, the conducting of a security or suitability investigation of an individual, the reporting of an investigation, the letting of a grant or other benefit, to the extent that the information is relevant and necessary to the requesting agency's decision on the matter.

7. Records from this system of records may be disclosed in a proceeding before a court, adjudicative body, or other administrative body when the Agency, or any Agency component or employee (in his or her official capacity as a VA employee), is a party to litigation; when the Agency determines that litigation is likely to affect the Agency, any of its components or employees, or the United States has an interest in the litigation, and such records are deemed to be relevant and necessary to the legal proceedings; provided that the disclosure is compatible with the purpose for which the records were collected.

8. Disclosure of relevant information may be made to individuals, organizations, private or public agencies, etc., with whom VA has a contract or agreement to perform such services as VA may deem practicable for the purposes of laws administered by VA, in order for the contractor or subcontractor to perform the services of the contract or agreement.

9. Disclosure may be made to officials of labor organizations recognized under 5 U.S.C. chapter 71 when relevant and necessary to their duties of exclusive representation concerning personnel policies, practices, and matters affecting working conditions.

10. Disclosure may be made to the VA-appointed representative of an employee, including all notices, determinations, decisions, or other written communications issued to the employee in connection with an examination ordered by VA under medical evaluation (formerly fitness-for-duty) examination procedures or Department-filed disability retirement procedures.

11. Disclosure may be made to officials of the Merit Systems Protection Board, including the Office of the Special Counsel, when requested in connection with appeals, special studies of the civil service and other merit systems, review of rules and regulations, investigation of alleged or possible prohibited personnel practices, and such other functions, promulgated in 5 U.S.C. 1205 and 1206, or as may be authorized by law.

12. Disclosure may be made to the Equal Employment Opportunity Commission when requested in connection with investigations of alleged or possible discrimination practices, examination of Federal affirmative employment programs, compliance with the Uniform Guidelines of Employee Selection Procedures, or other functions vested in the Commission by the President's Reorganization Plan No. 1 of 1978.

13. Disclosure may be made to the Federal Labor Relations Authority, including its General Counsel, when requested in connection with investigation and resolution of allegations of unfair labor practices, in connection with the resolution of exceptions to arbitrator awards when a question of material fact is raised and matters before the Federal Service Impasses Panel.

DISCLOSURE TO CONSUMER REPORTING AGENCIES:

Pursuant to 5 U.S.C. 552a(b)(12), VA may disclose records from this system to consumer reporting agencies as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Records are maintained on electronic media (hard disk and floppy disks) and paper.

RETRIEVABILITY:

Records may be retrieved by name, authorization code, VA organizational unit, originating telephone number, destination telephone number, location code, date, time, cost, and/or duration of call.

SAFEGUARDS:

1. Access to telecommunication areas at health care facilities is generally limited by appropriate locking devices and restricted to authorized VA employees and vendor personnel. Generally, VA telecommunication areas are locked at all times and the facilities are protected from outside access by the Federal Protective Service or other security personnel.

2. Access to file information or the user database is controlled by access codes. The system recognizes authorized VA employees by individually unique passwords or access codes. Contractors accessing the database remotely use encryption and access codes.

RETENTION AND DISPOSAL:

Records are maintained and disposed of in accordance with record disposition authority approved by the Archivist of the United States. Destruction of hard copy (paper) records is by shredding or burning or some other method that will macerate the record content. Working disks are erased as soon as the purpose for which they have been established has been served.

SYSTEM MANAGER(S) AND ADDRESS:

Director, Implementation and Training Services, Communications Services Office (194D), Office of Information, State Route 9, Building 307A, Martinsburg, West Virginia 25401.

NOTIFICATION PROCEDURES:

Individuals wishing to inquire whether this system of records contains information about themselves should contact the designated individual at the VHA facility where the records are maintained. Individuals must furnish the following information for their records to be located and identified: a. Full name; b. VA assigned telephone number or telephone service authorization number; and c. description of information being sought, including the time frame of information being sought.

RECORD ACCESS PROCEDURE:

Individuals wishing to request access to records about themselves should contact the designated individual at the VHA facility where the records are maintained. Individuals must furnish the following information for their records to be located and identified: a. Full name; b. VA assigned telephone number or telephone authorization number, and; c. Description of information being sought, including the time frame of information being sought. Individuals requesting access must also follow VA's Privacy Act regulations regarding verification of identify and access to records (38 CFR Part 1).

CONTESTING RECORD PROCEDURE:

Individuals wishing to request amendment of records about themselves should contact the designated individual at the VHA facility where the records are maintained. Individuals must furnish the following information for their records to be located and identified: a. Full name; b. VA assigned telephone number or telephone service authorization number; and c. Description of information being sought, including the time frame of the information being sought. Individuals requesting amendment must also follow VA's Privacy Act regulations regarding verification identify and amendment of records (38 CFR part 1).

RECORD SOURCE CATEGORIES:

The information in this system of records is obtained from the following sources: a. Local VA telephone directories and other telephone assignment records; b. call detail records provided by suppliers of telephone services; and c. the individual on whom the record is maintained.

[FR Doc. 03-6330 Filed 3-14-03; 8:45 am]

BILLING CODE 8320-01-P